DEPARTMENT OF EDUCATION

Upward Bound Program Participant Expansion Initiative

AGENCY: Office of Postsecondary Education, Department of Education.

ACTION: Notice of Final Priority.

SUMMARY: The Secretary of Education announces an absolute priority to provide supplemental funds of up to $85,600 in fiscal year (FY) 2000 to currently funded Upward Bound projects that serve at least one target high school in which at least 50 percent of the students were eligible for a free lunch under the National School Lunch Act (Free Lunch program) during the 1998-1999 school year.

The purpose of this priority is to increase the number of the neediest eligible students who are served by the Upward Bound program. The neediest students are generally those from the lowest income levels. The Secretary believes that limiting supplemental funds to projects that serve the above-described target high schools is a good way to measure whether projects serve the lowest income students because the Free Lunch program is limited to students from families with the lowest family income.

Under this priority, supplemental funds of up to $85,600 will be made to currently funded Upward Bound program projects. An estimated 157-177 current Upward Bound projects could each receive supplemental funds to serve up to 20 additional students.

Projects that receive supplemental funds under this priority are strongly encouraged to select eligible participants who have the greatest need for Upward Bound services.

EFFECTIVE DATE: August 23, 2000.

FURTHER INFORMATION CONTACT: Peggy Whitehead, Sheryl Wilson, or Gaby Watts, U.S. Department of Education, 1990 K Street, NW., Room 7020, Washington, DC 20006-8510. Telephone (202) 502-7600. The email address for The Office of Federal TRIO Programs is: Trio@ed.gov.

The email addresses for Ms. Whitehead, Ms. Wilson and Ms. Watts are: Peggy_Whitehead@ed.gov, Sheryl_Wilson@ed.gov, Gaby_Watts@ed.gov.

If you use a telecommunications device for the deaf (TDD), you may call the Federal Information Relay Service (FIRS) at 1-800-877-8339.

Individuals with disabilities may obtain this document in an alternate format (e.g., Braille, large print, audiotape, or computer diskette) on request to the contact persons listed in the preceding paragraph.

SUPPLEMENTARY INFORMATION: The Secretary of Education published a notice of proposed priority in the Federal Register on June 1, 2000 (65 FR 35238-35239).

In FY 2000, the Congress provided more funds than the Administration requested for the Federal TRIO Programs. In examining the options available to the Secretary for allocating these additional funds, the Secretary determined that a portion of the funds should be used to increase support to the Upward Bound program. The Upward Bound program, authorized under section 402C of the Higher Education Act of 1965 as amended (HEA), 20 U.S.C. 1070a-13, serves low-income, potential first-generation, college students by helping them generate the skills and motivation necessary for success in education beyond secondary school.

Analysis of Comments and Changes

In response to the Secretary's invitation in the notice of proposed priority, nine parties submitted comments on the proposed priority. An analysis of the comments and of any changes in the priority since publication of the notice of proposed priority follows.

Target School Eligibility and Date of Eligibility

Comments: One commenter recommended that free lunch eligibility be determined for the school district rather than the target high schools. One commenter recommended the use of 1998-1999 school year data rather than 1999-2000 school year data, since the 1999-2000 data will not be available until October 2000. Two commenters recommended use of the eligibility rate for the county or specified service area for free lunch or public benefits such as AFDC.

Discussion: Upward Bound projects serve target high schools that are not necessarily within the same school district since the target areas do not have to be contiguous. Upward Bound projects also serve target high schools in different counties and States. Therefore, it is easier for most Upward Bound projects to collect data from the specific target high school and certify that the target high school meets the free lunch criterion, which requires eligibility for the Free Lunch program, not participation in the Free Lunch program. AFDC benefits are individual records and collection of AFDC information for a target high school would be difficult. The Secretary accepts the suggestion that the data should be collected for school year 1998-1999. In many areas, the data for school year 1999-2000 may not be readily available.

Changes: The Free Lunch program data will be collected for the 1998-1999 school year.

Low-Income First-Generation Criteria

Comments: One commenter suggested the Secretary use the low-income first-generation criteria rather than 50 percent Free Lunch program eligibility for the priority.

Discussion: All participants who receive services under the priority must meet the eligibility requirements for Upward Bound, which already require that participants be low-income or potential first-generation college students.

Changes: None.

Free Lunch Criterion

Comments: One commenter supported the use of the free lunch statistics as an indicator of high need of students for the Upward Bound program. The commenter also questioned if other possible indicators might be used. Another commenter recommended the use of actual income of the families of students enrolled in the target high schools as the measure of need for expanded services. The commenter did not recommend an income threshold to make that determination.

Discussion: The Secretary believes that the use of the Free Lunch criterion coupled with the requirement that Upward Bound participants are generally from low-income families is sufficient to target these supplemental grant funds to the right grantees.

With regard to the use of family income, schools do not know the family income of their students so the commenter's suggestion is not practical.

Changes: None.

Comments: Another commenter recommended that the concept of free or reduced lunch be used as the eligibility criterion for the initiative.

Discussion: The priority is designed to increase the number of the neediest eligible students who are served by the Upward Bound program. The neediest students are generally those from the lowest income levels. The low-income eligibility requirement for students to participate in Upward Bound is a family income that does not exceed 150 percent of the poverty level established by the Bureau of the Census. In contrast, the Reduced Lunch program and Free Lunch program eligibility requirements are set at 185 percent and 130 percent of the poverty level, respectively. Therefore, the Reduced Lunch program has a higher income threshold than the Upward Bound program and would not be useful for targeting the lowest income students. The Secretary believes that limiting supplemental funds to projects that serve target high schools with 50 percent or higher of the students in the Free Lunch program is a good way to measure whether projects serve the lowest income students. The Free Lunch program is limited to students from families with the lowest family income.

Rationale for the Priority

Comments: One commenter questioned the need for the priority. The commenter recommended allocating the funds to all existing Upward Bound projects to support student stipends, work study components, increase staff, and support technology skills.

Discussion: The priority is designed to increase the number of the neediest students participating in the Upward Bound program.

Changes: None.

Cost Per Participant

Comments: One commenter questioned if additional students would be funded at the current per student participant rate, since costs vary among projects.

Discussion: The priority is designed to serve up to 20 additional students at a cost of up to $85,600. Since the priority is geared to serving the neediest students, costs may be higher than the current per student participant rate. This would be determined by the types of additional services and activities to be provided.

Changes: None.

Participation of Target High Schools

Comments: One commenter questioned whether students enrolled in target high schools, that were included in a grantee's initial application but that are not currently being served, can receive services under this supplemental initiative.

Discussion: Yes, a student enrolled in any target high school included in the grantee's Upward Bound application, that was submitted on or before October 30, 1998 would be eligible to participate.

Changes: None.

Page Limitations

Comments: One commenter questioned the existence of a page limit for the narrative that accompanies the revised budget.

Discussion: The priority provides for supplemental funding to expand the current projects. Therefore, only a brief narrative is needed to describe the activities to be provided with the additional funding.

Changes: None.

Support for the Priority

Comments: Three commenters expressed support of the priority.

Discussion: No changes were recommended.

Changes: None.

Priority

Absolute Priority

Under 34 CFR 75.105(c)(3), the Secretary gives absolute preference to applications that meet the following priority. The Secretary funds only applications that meet this absolute priority:

A project funded under this priority must serve a target high school in which at least 50 percent of the students were eligible for the Free Lunch program during the 1998-1999 school year.

Invitational Priority

Within the absolute priority specified in this notice, the Secretary is particularly interested in applications that meet the following invitational priority. However, under 34 CFR 75.105(c)(1) an application that meets this invitational priority does not receive competitive preference over other applications.

The Secretary strongly encourages projects that receive supplemental funds to enhance their recruitment strategies and services to target high schools to select and serve students who are at greatest risk of not graduating from high school or pursuing postsecondary education.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and action for the program.

Applicable Program Regulations

34 CFR part 645

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number: 84.047A)

Program Authority: 20 U.S.C. 1070.

Dated: July 17, 2000.
A. Lee Fritschler,
Assistant Secretary, Office of Postsecondary Education.

[FR Doc. 00-18590 Filed 7-21-00; 8:45 am]

BILLING CODE 4000-01-P